NATIONAL SCIENCE FOUNDATION

Sunshine Act Meetings; National Science Board

The National Science Board's Committee on Strategy and Budget, Subcommittee on Facilities (SCF), pursuant to NSF regulations (45 CFR part 614), the National Science Foundation Act, as amended (42 U.S.C. 1862n-5), and the Government in the Sunshine Act (5 U.S.C. 552b), hereby gives notice of the scheduling of a teleconference for the transaction of National Science Board business, as follows:

DATE AND TIME: Friday, September 30, 2016 at 1:00 to 2:00 p.m. EDT. Closed session: 1:00 to 1:15 p.m.; open session: 1:15 to 2:00 p.m.

SUBJECT MATTER: Closed meeting subject: Discussion of LFO bi-monthly facility reports. Open meeting subjects: Chairman's remarks; progress on NSB/NSF joint Facilities roles and responsibilities framework; and discussion of facility-related information products.

STATUS: Partly open, partly closed.

This meeting will be held by teleconference at the National Science Foundation, 4201 Wilson Blvd., Arlington, VA 22230. A public audio stream will be available for the public portion of the meeting. Request the link by contacting nationalsciencebrd@nsf.gov at least 24 hours prior to the teleconference. Please refer to the National Science Board Web site for additional information and schedule updates (time, place, subject matter or status of meeting) which may be found at http://www.nsf.gov/nsb/notices/. The point of contact for this meeting is Elise Lipkowitz, elipkow@nsf.gov.

Chris Blair,
Executive Assistant to the NSB Office.

[FR Doc. 2016-23108 Filed 9-21-16; 4:15 pm]

BILLING CODE 7555-01-P